DEPARTMENT OF THE TREASURY

Submission for OMB Review; Comment Request

SUMMARY: The Department of the Treasury will submit the following information collection requests to the Office of Management and Budget (OMB) for review and clearance in accordance with the Paperwork Reduction Act of 1995, on or after the date of publication of this notice.

DATES: Comments should be received on or before March 1, 2017 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

SUPPLEMENTARY INFORMATION: The Department of the Treasury will submit the following information collection requests to the Office of Management and Budget (OMB) for review and clearance in accordance with the Paperwork Reduction Act of 1995, Public Law 104-13, on or after the date of publication of this notice.

Internal Revenue Service (IRS)

OMB Control Number: 1545-2167.

Type of Review: Extension without change of a currently approved collection.

Title: Stripping Transactions for Qualified Tax Credit Bonds.

Abstract: The IRS requires the information to ensure compliance with the tax credit bond credit coupon stripping requirements, including ensuring that no excess tax credit is taken by holders of bonds and coupons strips. The information is required in order to inform holders of qualified tax credit bonds whether the credit coupons relating to those bonds may be stripped as provided under § 54A(i). The respondents are issuers of tax credit bonds, including states and local governments and other eligible issuers.

Affected Public: State, Local and Tribal Governments.

Estimated Total Annual Burden Hours: 1,000.

OMB Control Number: 1545-0028.

Type of Review: Revision of a currently approved collection.

Title: Employer's Annual Federal Unemployment (FUTA)/Planilla para la Declaración Federal Anual del Patrono de la Contribución Federal para el Desempleo.

Abstract: Information is required by the Internal Revenue Service in its compliance efforts to assist employers and their employees in understanding and complying with section 6053(a), which requires employees to report all their tips monthly to their employers.

Forms: 940, 940-V, Schedule A (Form 940), 940-PR, Schedule A (Form 940PR), Schedule R (940), 940-V (PR).

Affected Public: Businesses or other for-profits.

Estimated Total Annual Burden Hours: 105,271,229.

Dated: January 25, 2017.
Spencer Clark,
Treasury PRA Clearance Officer.

[FR Doc. 2017-01967 Filed 1-27-17; 8:45 am]

BILLING CODE 4830-01-P